DEPARTMENT OF COMMERCE

Census Bureau

Proposed Information Collection; Comment Request; 2010 Decennial Census

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 27, 2008.

ADDRESSES: Direct all written comments to Diana Hynek, Departmental Paperwork Clearance Officer, Department of Commerce, Room 6625, 14th and Constitution Avenue, NW., Washington, DC 20230 (or via the Internet at: dHynek@doc.gov).

FOR FURTHER INFORMATION CONTACT: Requests for additional information or copies of the information collection instrument(s) and instructions should be directed to Frank Vitrano, U.S. Census Bureau, Room 3H174, Washington, DC 20233-9200, 301-763-3961 (or via Internet at: frank.a.vitrano@census.gov.)

SUPPLEMENTARY INFORMATION:

I. Abstract

Article 1, Section 2 of the United States Constitution mandates that the U.S. House of Representatives be reapportioned every ten years by conducting a national census of all residents. In addition to the reapportionment of the U.S. Congress, by law, Census data are required in order to redraw legislative district boundaries. Census data also are used to determine funding allocations for the distribution of hundreds of billions of dollars of federal and state funds each year.

From the 2010 Census, the Census Bureau will produce the basic population totals by state for Congressional apportionment, as mandated by the Constitution, and more specifically elaborated in Title 13 U.S. Code. Title 13 of the United States Code also provides for the confidentiality of responses to various surveys and censuses.

In compliance with Public Law 94-171, for each state, the Census Bureau will tabulate total population counts by race, Hispanic origin, and, for those 18 years of age and over, by a variety of census geographic areas including legislative district, voting district, and census tabulation blocks. In compliance with Public Law 94-171, the Census Bureau also will tabulate housing unit counts by occupancy status (and vacant).

In the process of developing our data collection instruments for the 2010 Census, the Census Bureau has attempted to reduce respondent burden in two major ways: (1) By providing all households a short form questionnaire containing seven population questions for each household member and four household questions for the person completing the form, and (2) by providing enumerators working in the neighborhoods an up-to-the-minute status of completed questionnaires received by the office, thereby eliminating the need to visit a household that sent in a late return by mail.

II. Method of Collection

A. Mailing Strategy for Questionnaires, Letters, Reminder Postcards

The mailout/mailback method is the primary means of census taking during the 2010 Census. The U.S. Postal Service will deliver Census Bureau-addressed questionnaires to housing units. Residents will be asked to complete and mail the questionnaires back in a postage-paid envelope. For Census 2000, this method was used for more than 80 percent of the housing units in the United States. We will use this method again in 2010.

In the designated mailout/mailback areas of the United States, the 2010 Census will use a multiple mailing strategy—an advance notice letter, an initial questionnaire, a reminder or thank you postcard, and a replacement questionnaire. Our “multiple contact” mailing strategy was developed to get the highest mail response rate possible. Our studies have shown that mailing both a letter telling residents that a questionnaire is on the way, and a postcard reminding them to send it in, increase the mail return rate. We have found that the second mailing, or replacement mailing, increases the rate of response by at least 7 percentage points and eliminates the need to send a census worker to the home, thereby saving taxpayer dollars. In summary, mailings will include:

• An advance notice letter that alerts households that the census form will be sent to them soon.

• An initial mailing package that includes the questionnaire. In some areas the questionnaire is in English, in others it is a bilingual (English/Spanish) form.

• A reminder post card or letter that serves as a thank you for returning the questionnaire, or a reminder to mail it. For those housing units receiving the bilingual questionnaire, the reminder will be a bilingual (English and Spanish) letter.

• An English-language replacement questionnaire package that is mailed about 10 days after the reminder postcard is mailed. Replacements are sent only to households that do not return their questionnaire by a pre-determined date.

B. Update/Leave Operations

In geographic areas without street names and/or house number addresses (e.g. post office box, rural route, etc.), the census uses an Update/Leave (U/L) enumeration methodology. Enumerators canvass the blocks in their assignment areas, update the address lists and census maps, determine if the housing unit is either a duplicate or nonexistent and should be deleted, and leave addressed census questionnaires at each unit. They also prepare and drop off questionnaires at any added housing units that they find in their assignment areas not showing on existing census address lists. Residents are expected to complete the questionnaire and mail it back to the Census Bureau. An enumerator will visit those who do not return a questionnaire after April 2010 to obtain the information.

C. Update/Enumerate Operations

1. Update/Enumerate (U/E): Update/Enumerate is a method of data collection conducted in communities with special enumeration needs and where mailing addresses of many housing units do not contain house numbers and/or street names. These communities may include selected American Indian reservations and colonias (small, usually rural Spanish-speaking communities). These communities often lack basic physical infrastructure elements such as running water, paved streets and approved sewage systems. U/E also will be implemented in resort areas with high concentrations of seasonally vacant living quarters. Enumerators will canvass assignment areas to update residential addresses by adding new ones or deleting those not found, update Census Bureau maps, and complete a questionnaire for each housing unit. Each housing unit will be classified as occupied, vacant, or delete.

2. Remote Update Enumerate (RU/E): Remote Update Enumerate is performed similarly to Update/Enumerate (U/E) but in designated remote U/E targeted enumeration areas. Areas include communities that are sparsely populated with an estimated 6,500 or fewer housing units, group quarters, transient locations, and service-based enumerations, as applicable. These areas are not included in the Local Update of Census Addresses (LUCA) program and will not have their address lists updated in the Address Canvass operation.

3. Remote Alaska (RA): The remote areas of Alaska will be enumerated using the Update/Enumerate method. Remote Alaska is identified as Wade Hampton, the Seward Peninsula, the Aleutian Chain, and the Arctic/North Slope. Outlying or remote communities in Alaska range from a few people to several hundred. Roads rarely exist to connect the outlying communities. Most of these small communities are accessible only by small engine aircraft, snowmobiles, four-wheel drive vehicles, dog sled or a combination thereof. Due to the sequential timing of the spring thaw across Alaska, we will begin the remote enumeration earlier in January before the thaw begins when conditions are most favorable. Once the thaw begins, the population leaves to fish and hunt.

D. Enumeration at Transitory Locations (ETL) Operations

The ETL field operation enumerates individuals who do not have a Usual Home Elsewhere, or UHE, that are staying at transitory locations at the time of enumeration. Transitory locations include RV parks, campgrounds, hotels, motels (including those on military sites), marinas, racetracks, circuses, and carnivals. During the operation, enumerators conduct interviews using a paper questionnaire.

E. Be Counted Program and Questionnaire Assistance Centers

1. Be Counted (BC) Program: The Be Counted program is designed for persons who believe they were not counted in the 2010 Census. The Census Bureau will place unaddressed census questionnaires at selected public sites that are easily accessible and frequented by large numbers of people. The BC questionnaires will be printed in Chinese, English, Korean, Russian, Spanish, and Vietnamese languages. They will contain the mailout/mailback style questions, along with additional questions needed to process and match the forms to the census address file.

2. Questionnaire Assistance Centers (QAC): These are “walk-in” community locations where residents are provided assistance in completing their census questionnaire, help with overcoming language barriers, and provided with answers to general questions about the census. Residents can pick up Be Counted questionnaires if they've misplaced the original questionnaire was which mailed to the residence. Residents will be able to locate a QAC by contacting a Census Bureau local census office.

F. Group Quarters (GQ) Operations

1. Group Quarters Advance Visit (GQAV): The GQAV operation informs the GQ contact person of the upcoming GQ enumeration, addresses privacy and confidentiality concerns relating to personal identifiable information, and identifies any security issues, such as restricted access, required credentials, etc. Crew leaders visit all GQs and conduct an interview with the designated contact person to verify the GQ name, address, contact name and phone number, and obtain an agreed upon date and time to conduct the enumeration and an expected Census Day population. The information collected during the interview is used to prepare the correct amount of census materials needed to conduct the enumeration at the facility.

2. Group Quarters Enumeration (GQE): The GQE operation will be conducted at the Group Quarters on the date agreed upon during the Advance Visit. During the GQE, three different enumeration methods can be used to enumerate the population: (1) Interview residents in group quarters like soup kitchens; (2) distribute questionnaire packets for residents in colleges and universities to complete; and (3) use administrative records in places where it is disruptive or unsafe for Census personnel such as prisons. Enumerators will visit group quarters to develop a control list of all residents and distribute census questionnaires (Individual Census Reports or ICRs) for residents to complete, interview the residents and enter the data on the ICR, or use administrative records to complete the ICR. Enumerators collect and review completed ICRs to ensure that they are complete and legible. They will also complete an ICR for any resident on the control list who did not complete one.

3. Service-Based Enumeration (SBE): The SBE is designed to enumerate people experiencing homelessness and who may otherwise be missed during the enumeration of housing units and group quarters. People are enumerated at places where they receive services and at targeted non-sheltered outdoor locations. SBE locations likely will include shelters for people experiencing homelessness (emergency and transitional shelters, and hotels and motels providing shelter for people experiencing homelessness), domestic violence shelters, soup kitchens, regularly scheduled mobile food van stops, and targeted non-sheltered outdoor locations. This operation is conducted to provide an opportunity for people experiencing homelessness to be included in the census.

4. Military Group Quarters Enumeration: Military Group Quarters Enumeration is a special component of the GQE designed to enumerate military personnel assigned to barracks, dormitories, military treatment facilities, and disciplinary barracks and jails. Military Census Reports (MCRs) are distributed to the residents of the military facilities. (Military families living in housing units on bases are enumerated using the mailout/mailback methodology.) For people living or staying in Military GQs, the Census Bureau provides enumeration procedures, training, and questionnaires to military personnel on the base who then conduct the actual enumeration. During the military enumeration, designated base personnel distribute census questionnaires to all military personnel assigned to the GQs, including all people in disciplinary barracks and jails. Within a few days, base personnel collect the completed questionnaires, obtaining census information for any missing cases. Census staffs return to the base to collect the completed questionnaires.

5. Domestic Military/Maritime Vessels Enumerations (MMVE): The MMVE is a special component of Group Quarters Enumeration designed to enumerate people residing on U.S. military ships or on maritime vessels in operation at the time of the census. This is also sometimes called “Shipboard Enumeration.” The MMVE uses questionnaires, which are distributed to every Navy and Coast Guard vessel home-ported in the United States and to U.S.-owned and operated flagged vessels used for commercial and non-combatant government purposes. The Census Bureau provides enumeration procedures, training, and questionnaires to personnel on the vessels who then conduct the actual enumeration. Designated vessel personnel distribute the census questionnaires to those living on the vessels, collect the completed questionnaires, and mail them to a Census Processing Office using a prepaid envelope.

G. Non-Response Follow-up Operations

1. Non-Response Follow-up (NRFU): In mid-April 2010, the Census Bureau will begin identifying the addresses from the mailed-back returns for which we have not received a response, and create enumerator assignments to be used for collecting information from non-respondent households. Beginning early May, enumerators will visit every address for which a household did not respond and complete a census questionnaire for them. Enumerators also will complete a census questionnaire for any household or housing unit they discover that is not shown on the assignment list within their particular assignment area. Housing units will be classified as occupied, vacant, or delete. Enumerator assignments will be updated daily to remove addresses for late mail returns to avoid unnecessary visits to households.

2. Non-Response Follow-up Reinterview (NRFU RI): NRFU RI is a quality assurance operation on the actual NRFU field operation. It is designed to: (1) Ensure that the enumerator correctly followed the NRFU field procedures, and (2) identify enumerators who intentionally or unintentionally produced data errors. A sample of households in an assignment area will be contacted again, in person or by telephone, by an independent separate staff of Census enumerators. Enumerators will re-ask certain questions and compare the answers to the original questionnaire. This will confirm that the enumerator visited the correct address and that the original questionnaire was completed accurately.

3. Vacant/Delete Check (VDC) Field Operation: The VDC operation is an independent followup of selected addresses that are classified as vacant or nonexistent during Non-response Follow-up. These addresses are assigned to a different enumerator than the enumerator who made the original classification. Enumerators will verify the Census Day (April 1, 2010) status of the assigned addresses and complete a census questionnaire for all VDC cases. In cases where a housing unit looks visibly demolished, the enumerator must conduct an interview with a proxy respondent (e.g., neighbor or mailman) to confirm that the address did not exist on Census Day. If the housing unit looks occupied, the interview will be conducted with the household member to confirm the unit's status on Census Day. Although the VDC workload is comprised of only vacant and nonexistent cases from NRFU, the VDC enumerator may determine that a case is vacant, nonexistent, or occupied.

H. Counting Americans Overseas Operations

The Federally-Affiliated Americans Overseas Count operation obtains counts from the administrative records of Federal agencies of U.S. military and Federal civilian employees stationed overseas and their dependents living with them as of April 1, 2010. These counts are allocated to a home state for the purposes of reapportioning seats in the U.S. House of Representatives; they are not included in sub-state allocations or redistricting. Federally-affiliated Americans living overseas and their dependents living with them are reported by the employing departments and agencies if they have a designated home state in one of the 50 states or the District of Columbia. If they do not have a designated home state, they will not be included in the final published Summary File of population data or apportioned to any state. Other private U.S. citizens living abroad and crews of merchant ships engaged in foreign transportation are not included in the overseas count.

I. Telephone Questionnaire Assistance and Fulfillment Operation

1. Telephone Questionnaire Assistance (TQA): Toll-free telephone numbers (printed on mailback questionnaires) are provided for respondents to obtain information about the 2010 Census in support of data collection activities. Staffers will answer questions about the census questionnaire so that respondents can complete it and mail it back, take an interview over the phone, assist respondents who have difficulty reading or understanding the questionnaire, and accept requests for language guides and questionnaires.

2. Questionnaire Fulfillment: When respondents call TQA for forms, staffers will fulfill their requests by mailing census questionnaires in Chinese, English, Korean, Russian, Spanish, or Vietnamese languages. Language assistance guides will be developed in over 50 different languages and be made available to respondents who contact TQA, or can be downloaded from the Internet.

J. Field Verification

For Be Counted questionnaires that do not possess a Master Address File identification number, the Census Bureau will send enumerators out into the field to verify the existence of those housing units that were assigned to a census block, but did not match an address in the Master Address File.

III. Data

OMB Control Number: 0607-0919.

Form Numbers:

Letters:

D-5(L), Advance Letter (English, Spanish).

D-10(L), Cover Letter for Be Counted Questionnaire (Multilanguage).

D-16(L), Cover Letter for Mailback Questionnaire (Multilanguage).

D-17(L), Cover Letter for Replacement Mailing.

D-25(L), Shipboard Reminder Letter.

D-36(L), Shipboard 2nd Reminder Letter.

D-47(L) PR, Letter to Shipmaster for American Flag Vessels.

D-48(L), Letter to Shipboard Operators.

D-55(L), Cover Letter for Overseas Personnel and Dependents Counts by State of Residence.

D-350(L), GQ Access Letter.

Questionnaires:

D-1, Census Questionnaire (Multilanguage).

D-10, Be Counted (Multilanguage).

D-15, Enumeration of Transitory Locations (English, Spanish).

D-20, Individual Census Report (English, Spanish).

D-21, Military Census Report.

D-23, Shipboard Census Report.

D-351, Group Quarters Validation.

Postcard:

D-9, Reminder Postcard (English, Spanish).

Notices:

D-26, Notice of Visit—Puerto Rico (English, Spanish).

D-31, Privacy Act Notice—Puerto Rico (English, Spanish).

Electronic Data Collection Instrument:

D-1302I, Coverage Follow-Up Telephone Interview Instrument (English, Spanish).

D-1400I, TQA Telephone Interview Instrument (English, Spanish).

D-1500I, Nonresponse Followup Instrument (English, Spanish).

D-1501I, NRFU Reinterview Instrument (English, Spanish).

D-1502I, NRFU Vacant Delete Check Instrument (English, Spanish).

Type of Review: Regular Submission.

Affected Public: Individuals or Households.

Estimated Number of Respondents (Stateside and Puerto Rico (PR)): Short form 133,700,000 households; Reinterview—2,100,000 households.

Estimated Time Per Response: Short Form—10 minutes; Reinterview—10 minutes.

Estimated Total Annual Burden Hours: Short Form—22,283,333 hours; Reinterview—350,000 hours.

Estimated Total Annual Cost: $0.

Respondent's Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 20, 2008.
Gwellnar Banks,
Management Analyst, Office of the Chief Information Officer.

[FR Doc. E8-6047 Filed 3-25-08; 8:45 am]

BILLING CODE 3510-07-P